DEPARTMENT OF THE TREASURY

Submission for OMB Review; Comment Request

July 10, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before August 16, 2002 to be assured of consideration.

Internal Revenue Service (IRS)

OMB Number: 1545-0024.

Form Number: IRS Form 843.

Type of Review: Extension.

Title: Claim for Refund and Request for Abatement.

Description: Internal Revenue Code (IRC) sections 6402, 6404, and sections 301.6404-2, and 301.6404-3 of the regulations allow for refunds of taxes (except income taxes) or refund, abatement, or credit of interest, penalties, and additions to tax in the event of errors or certain action by the IRS. Form 843 is used by taxpayers to claim these refunds, credits, or abatements.

Respondents: Individuals or households, Business or other for-profit, Not-for-profit institutions, Farms, State, Local or Tribal Government.

Estimated Number of Respondents/Recordkeepers: 545,500.

Estimated Burden Hours Per Respondent/Recordkeeper:

Recordkeeping—26 min.

Learning about the law or the form—7 min.

Preparing the form—20 min.

Copying, assembling, and sending the form to the IRS—28 min.

Frequency of Response: On occasion.

Estimated Total Reporting/Recordkeeping Burden: 845,525 hours.

OMB Number: 1545-0177.

Form Number: IRS Form 4684.

Type of Review: Extension.

Title: Casualties and Thefts.

Description: Form 4684 is used by taxpayers to compute their gain or loss from casualties or thefts, and to summarize such gains and losses. The data is used to verify that the correct gain or loss has been computed.

Respondents: Individuals or households, Business or other for-profit.

Estimated Number of Respondents/Recordkeepers: 170,000.

Estimated Burden Hours Per Respondent/Recordkeeper:

Recordkeeping—1 hr., 58 min.

Learning about the law or the form—26 min.

Preparing the form—1 hr., 4 min.

Copying, assembling, and sending the form to the IRS—34 min.

Frequency of Response: Annually.

Estimated Total Reporting/Recordkeeping Burden: 691,900 hours.

OMB Number: 1545-0216.

Form Number: IRS Form 5713, Schedules A, B, and C.

Type of Review: Extension.

Title: International Boycott Report.

Description: Form 5713 and related Schedules A, B, and C are used by any entity that has operations in a “boycotting” country. If that entity cooperates with or participates in an international boycott it loses a portion of the foreign tax credit, or deferral of FSC and IC-DISC benefits. The IRS uses Form 5713 to determine if any of the above benefits should be lost. The information is also used as the basis for a report to the Congress.

Respondents: Business or other for-profit, Individuals or households.

Estimated Number of Respondents/Recordkeepers: 3,875.

Estimated Burden Hours Per Respondent/Recordkeeper:

Form | Recordkeeping | Learning about the law or the form | Preparing and sending the form to the IRS
5713 | 22 hr., 0 min | 2 hr., 21 min | 4 hr., 1 min.
Sch. A (5713) | 3 hr., 6 min | 12 min | 15 min.
Sch. B (5713) | 3 hr., 21 min | 1 hr., 59 min | 2 hr., 7 min.
Sch. C (5713) | 5 hr., 15 min | 1 hr., 47 min | 1 hr., 57 min.

Frequency of Response: Annually.

Estimated Total Reporting/Recordkeeping Burden: 104,236 hours.

OMB Number: 1545-0748.

Form Number: IRS Form 2678.

Type of Review: Extension.

Title: Employer Appointment of Agent.

Description: 26 U.S.C. 3504 authorizes an employer to designate a fiduciary, agent, etc., to perform the same acts as required of employers for purposes of employment taxes.

Respondents: Business or other for-profit, Not-for-profit institutions, Farms, Federal Government.

Estimated Number of Respondents: 95,200.

Estimated Burden Hours Per Respondent: 30 minutes.

Frequency of Response: Other (as necessary).

Estimated Total Reporting Burden: 47,600 hours.

OMB Number: 1545-1783.

Regulation Project Number: REG-107184-00 NPRM and Temporary.

Type of Review: Extension.

Title: Guidance Necessary to Facilitate Electronic Tax Administration.

Description: The regulations provide a regulatory statement of IRS authority to prescribe what return information or documentation must be filed with a return, statement or other document required to be made under any provision of the internal revenue laws or regulations. In addition, the regulations eliminate regulatory impediments to electronic filing of Form 1040..

Respondents: Individuals or households, Business or other for-profit.

Estimated Number of Respondents: 1.

Estimated Burden Hours Per Respondent: 1 hour.

Frequency of Response: Annually.

Estimated Total Reporting Burden: 1 hour.

Clearance Officer: Glenn Kirkland, (202) 622-3428, Internal Revenue Service, Room 6411-03, 1111 Constitution Avenue, NW., Washington, DC 20224.

OMB Reviewer: Joseph F. Lackey, Jr., (202) 395-7316, Office of Management and Budget Room 10235, New Executive Office Building, Washington, DC 20503.

Mary A. Able,
Departmental Reports, Management Officer.

[FR Doc. 02-17919 Filed 7-16-02; 8:45 am]

BILLING CODE 4830-01-P